DEPARTMENT OF AGRICULTURE

Submission for OMB Review; Comment Request

August 3, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 7, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Title: National Animal Health Monitoring System; Beef 2017 Study.

OMB Control Number: 0579-0326.

Summary of Collection: Under the Animal Health Protection Act (7 U.S.C. 8301 et seq.), the Animal and Plant Health Inspection Service (APHIS) of the U.S. Department of Agriculture is authorized, among other things, to protect the health of the U.S. Livestock and poultry populations by preventing the introduction and interstate spread of serious diseases and pest of livestock and by eradicating such diseases from the United States when feasible. In connection with this mission, APHIS operates the National Animal Health Monitoring System (NAHMS), which collects data on the prevalence and economic importance of livestock diseases and associated risk factors.

Need and Use of the Information: APHIS plans to conduct the Beef 2017 Study as part of an ongoing series of NAHMS studies on the U.S. livestock population. The purpose of this study is to collect information, through questionnaires and biologic sampling, to: Describe trends in beef cow-calf health and management practices; describe management practices and producer beliefs related animal welfare, emergency preparedness, environmental stewardship, recordkeeping, and animal identification; and describe antimicrobial use practices (stewardship) and determine the prevalence and antimicrobial resistance patterns of potential food-safety pathogens.

This information will help the United States detect trends in the management, production, and health status of the Nation's beef industry over time.

Description of Respondents: Business or Other For-Profit.

Number of Respondents: 4,000.

Frequency of Responses: Reporting: On Occasion.

Total Burden Hours: 5,894.

Ruth Brown,
Departmental Information Collection Clearance Officer.

[FR Doc. 2017-16702 Filed 8-7-17; 8:45 am]

BILLING CODE 3410-34-P